DEPARTMENT OF HEALTH AND HUMAN SERVICES

Centers for Disease Control and Prevention

[30Day-21-1215]

Agency Forms Undergoing Paperwork Reduction Act Review

In accordance with the Paperwork Reduction Act of 1995, the Centers for Disease Control and Prevention (CDC) has submitted the information collection request titled Awardee Lead Profile Assessment (ALPA) to the Office of Management and Budget (OMB) for review and approval. CDC previously published a “Proposed Data Collection Submitted for Public Comment and Recommendations” notice on July 20, 2020 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Awardee Lead Profile Assessment (ALPA) (OMB Control No. 0920-1215, Exp. 02/28/2021)—Revision—National Center for Environmental Health (NCEH), Centers for Disease Control and Prevention (CDC).

Background and Brief Description

The Centers for Disease Control and Prevention (CDC) is requesting Paperwork Reduction Act (PRA) clearance for a three-year revised information collection request (ICR) titled “Awardee Lead Profile Assessment (ALPA)” (OMB Control No. 0920-1215; expiration date 02/28/2021). The goal of this ICR is to build on the CDC's existing childhood lead poisoning prevention program. Based on program successes over the past three years, CDC has made ALPA an annual reporting requirement for ongoing and new CDC Childhood Lead Poisoning Prevention Programs (CLPPPs), including the FY17 “Lead Poisoning Prevention—Childhood Lead Poisoning Prevention—financed partially by Prevention and Public Health Funds” (CDC-RFA-EH17-1701PPHF17); the FY18 “Childhood Lead Poisoning Prevention Projects, State and Local Childhood Lead Poisoning Prevention and Surveillance of Blood Lead Levels in Children” (CDC-RFA-EH18-1806); and the FY20 “Childhood Lead Poisoning Prevention and Surveillance of Blood Lead Levels in Children” (CDC-RFA-EH20-2001). This annual information collection will be used to; (1) identify common characteristics of funded childhood lead poisoning prevention programs, and (2) inform guidance and resource development in support of the ultimate program goal, which is blood lead elimination in children.

The dissemination of these ALPA results will ensure that both funded and non-funded jurisdictions are able to; (1) identify policies and other factors that support or hinder childhood lead poisoning prevention efforts; (2) understand what strategies are being used by funded public health agencies to implement childhood lead poisoning prevention activities; and (3) use this knowledge to develop and apply similar strategies to support the national agenda to eliminate childhood lead poisoning.

This program management information collection has been revised in several ways. Due to an increase in funding and program growth, CDC is requesting an increase in the number of respondents, defined as state and local governments, or their bona fide agents.

CDC will continue to use two data collection modes, a web survey and an email survey. We anticipate that most of the respondents (n=60; 98 percent) will use the web survey. The estimates of the number and percentage of respondents by mode of data collection are based on previous data collections. In the past, respondents only used the email survey if they had technical difficulties with the web survey, which was rare. For this purpose, we estimate that only 2% (n=1) of the respondents may need to submit an email survey. This represents a change in distribution from the 2018 estimates, which were initially assumed as 83.3% for the web survey and 16.7% for the email survey.

A redistribution by mode of collection will not affect the total time burden requested as the time per response is the same for either mode; however, the time to take the survey has increased from seven minutes in 2018 to 47 minutes per response due to a revision of the survey. This revised time estimate per response is based on pilot tests of the revised survey among nine respondents, and includes the time needed to review the ALPA Training Manual, which is a new addition in this revision ICR.

Thus, CDC is requesting an increase in the annual number of respondents from 48 to a maximum of 61 recipients (n=13 more respondents), and an increase in the total annual time burden from six hours in 2018 to 48 hours (n=42 more hours).

Estimated Annualized Burden Hours
Type of respondents | Form name | Number of respondents | Number of responses per respondent | Average burden per response (in hours)
State or Local Governments (or their bona fide fiscal agents) | ALPA Web Survey ALPA Email Survey | 60 1 | 1 1 | 47/60 47/60

Jeffrey M. Zirger,
Lead, Information Collection Review Office, Office of Scientific Integrity, Office of Science, Centers for Disease Control and Prevention.

[FR Doc. 2020-24474 Filed 11-3-20; 8:45 am]

BILLING CODE 4163-18-P